DEPARTMENT OF DEFENSE

Department of the Army

Notice of Availability of a Draft Environmental Impact Statement (DEIS) for Training Land Acquisition at Fort Polk, LA

AGENCY: Department of the Army, DoD.

ACTION: Notice of Availability (NOA).

SUMMARY: The Department of the Army has prepared a DEIS that analyzes environmental and socioeconomic impacts connected with the proposed acquisition (hereinafter to mean including purchase and lease) and use of up to 100,000 additional acres of commercial and private lands for training in the vicinity of Fort Polk, Louisiana. This Proposed Action to acquire additional lands supports the training requirements of the Joint Readiness Training Center (JRTC) and Fort Polk's current and future resident units. The DEIS analyzes three alternatives that are deemed feasible and meet the purpose and need for this Proposed Action.

DATES: The public comment period for the DEIS will end 45 days after the publication of the NOA in the Federal Register by the U.S. Environmental Protection Agency.

ADDRESSES: To request a copy of the DEIS contact Ms. Susan Walker, Fort Polk Public Affairs Office, 7073 Radio Road, Fort Polk, LA 71459-5342. Comments may also be e-mailed to Susan.T.Walker@conus.army.mil.

FOR FURTHER INFORMATION CONTACT: Ms. Susan Walker at (337) 531-9125 during normal business hours from 9 a.m. to 5 p.m. CST.

SUPPLEMENTARY INFORMATION: Fort Polk, located in west-central Louisiana, is one of the Army's premier power projection platforms and also the home of the JRTC. Fort Polk is currently comprised of approximately 198,130 acres of U.S. Army-owned land and lands utilized under a special use permit with the U.S. Forest Service. In order to improve the training requirements of Fort Polk's units and the JRTC, the Army has proposed to acquire up to 100,000 acres of additional land to enhance realistic training conditions. Additional training lands will allow Soldiers of the JRTC to train on brigade-level combat maneuver training tasks while simultaneously allowing Fort Polk's resident units to conduct maneuver and live-fire training. This additional land will enhance training for Fort Polk units and units deploying to JRTC, will reduce the need for training work arounds, and will allow Soldiers to train to more realistic standards in preparation for operational deployment.

The Fort, Polk DEIS analyzes the environmental and socioeconomic impacts of several acquisition location alternatives, each of which could include the acquisition of up to 100,000 acres of land. Alternative 1 considers the acquisition of lands directly adjacent to Fort Polk's existing training areas to the south of Peason Ridge and directly north and east of the main post. As part of Alternative 1, units would continue to lease lands to convoy to Peason Ridge to access training areas. Alternative 2 considers the acquisition of the land considered in Alternative 1 and, in addition, considers the acquisition of parcels that connect Peason Ridge with Fort Polk's main post. Alternative 3 considers the acquisition of those lands considered in Alternative 2 and, in addition, considers the acquisition of lands to the east of Fort Polk in Rapides Parish. The DEIS also analyzes the No Action Alternative, which evaluates the impacts of taking no action to acquire or use additional training land around Fort Polk.

The Army has determined that significant impacts may possibly occur in regard to land use and noise for each of the three alternatives being considered. The Army projects that moderate impacts would occur to soil resources, water resources, wetlands, biological resources, cultural resources, and socioeconomics as a result of implementing the Proposed Action. The DEIS serves as documentation of the installation's compliance with Section 106 of the National Historic Preservation Act in accordance with 36 CFR 800.3-800.6. Substantive compliance with these provisions of the Advisory Council on Historic Preservation's regulations will be achieved through NEPA.

The public and any consulting parties are invited to review and comment on the DEIS. Public meetings will be announced in local media sources.

Comments from the public and consultation with consulting parties will be considered before any decision is made regarding implementing the Proposed Action at Fort Polk.

Dated: October 23, 2009.
Addison D. Davis IV,
Deputy Assistant Secretary of the Army (Environment, Safety and Occupational Health).

[FR Doc. E9-26088 Filed 10-29-09; 8:45 am]

BILLING CODE 3710-08-M